DEPARTMENT OF THE TREASURY

Internal Revenue Service

26 CFR Part 1

[REG-124152-06]

RIN 1545-BF73

Definition of Taxpayer for Purposes of Section 901 and Related Matters; Correction

AGENCY: Internal Revenue Service (IRS), Treasury.

ACTION: Notice of proposed rulemaking and notice of public hearing; Correction.

SUMMARY: This document contains corrections to notice of proposed rulemaking and notice of public hearing that was published in the Federal Register on Friday, August 4, 2006 (71 FR 44240) relating to the determination of who is considered to pay a foreign tax for purposes of sections 901 and 903.

FOR FURTHER INFORMATION CONTACT: Bethany A. Ingwalson, (202) 622-3850 (not a toll-free number).

SUPPLEMENTARY INFORMATION:

Background

The notice of proposed rulemaking and notice of public hearing (REG-124152-06) that is the subject of these corrections are under sections 901 and 903 of the Internal Revenue Code.

Need for Correction

As published, the notice of proposed rulemaking and notice of public hearing (REG-124152-06) contains errors that may prove to be misleading and are in need of clarification.

Correction of Publication

Accordingly, the notice of proposed rulemaking and notice of public hearing (REG-124152-06) that was the subject of FR Doc. E6-12358 is corrected as follows:

§ 1.901-2 [Corrected]

1. On page 44246, column 1, § 1.901-2(f)(6), paragraph (i) of Example 4., line 4, the language “county Y. A accrues interest income on the” is corrected to read “country Y. A accrues interest income on the”.

2. On page 44246, column 2, § 1.901-2(f)(6), paragraph (i) of Example 4., first paragraph of the column, line 1, the language “pay over to country X 10 percent of the” is corrected to read “pay over to country Y 10 percent of the”.

3. On page 44247, column 1, § 1.901-2(f)(6), paragraph (i) of Example 8., the language “tax purposes. New D also has a short U.S.” is corrected to read “tax purposes. “New” D also has a short U.S.”.

4. On page 44247, column 1, § 1.901-2(f)(6), paragraph (ii) of Example 8., line 11, the language “years of terminating D and new D. See” is corrected to read “years of old D and new D. See”.

5. On page 44247, column 1, § 1.901-2(f)(6), paragraph (ii) of Example 8., line 13, the language “allocation of terminating D's country M taxes” is corrected to read “allocation of old D's country M taxes”.

6. On page 44247, column 1, § 1.901-2(h), the language “(h) Effective Date. Paragraphs (a)” is corrected to read “(h) Effective date. Paragraphs (a)”.

LaNita Van Dyke,
Federal Register Liaison, Publications and Regulations Branch, Legal Processing Division, Associate Chief Counsel, (Procedure and Administration).

[FR Doc. E6-18205 Filed 10-30-06; 8:45 am]

BILLING CODE 4830-01-P